FEDERAL MARITIME COMMISSION

Ocean Transportation Intermediary License; Rescission of Orders of Revocation

Notice is hereby given that the Order revoking the following license is being rescinded by the Federal Maritime Commission pursuant to sections 14 and 19 of the Shipping Act of 1984 (46 U.S.C. app. 1718) and the regulations of the Commission pertaining to the licensing of Ocean Transportation Intermediaries, 46 CFR part 515.

License No. | Name/address
018072N | Oceanair Freight International, Inc., 4280 NW 147th Terrace, Opalocka, FL 33054.

Sandra L. Kusumoto,
Director, Bureau of Consumer Complaints and Licensing.

[FR Doc. 04-15991 Filed 7-14-04; 8:45 am]

BILLING CODE 6730-01-P